DEPARTMENT OF ENERGY

Federal Energy Regulatory Commission

[Docket Nos. CP15-554-009 and CP15-555-007]

Atlantic Coast Pipeline, LLC; Eastern Gas Transmission and Storage, Inc. Notice of Intent To Prepare a Supplemental Environmental Impact Statement and Notice of Schedule for Environmental Review for the Proposed Atlantic Coast Pipeline Disposition and Restoration Plan And Supply Header Project Restoration Plan

The staff of the Federal Energy Regulatory Commission (FERC or Commission) will prepare a supplemental environmental impact statement (supplemental EIS) that will discuss the environmental impacts resulting from Atlantic Coast Pipeline, LLC's (Atlantic) Atlantic Coast Pipeline Disposition and Restoration Plan and Eastern Gas Transmission and Storage, Inc.'s (EGTS) ¹ Supply Header Project Restoration Plan.² The Commission will use this supplemental EIS in its decision-making process to determine whether Atlantic's and EGTS' proposals are in the public interest.

¹ On November 1, 2020, Dominion Energy sold certain companies, including Dominion Energy Transmission, Inc. (the Supply Header Project developer), to Berkshire Hathaway Energy Company; and Dominion Energy Transmission, Inc. changed its name to Eastern Gas Transmission and Storage, Inc.

² The Atlantic Coast Pipeline Disposition and Restoration Plan and the Supply Header Project Restoration Plan were submitted in response to Commission staff's October 27, 2020 Data Request and can be found on FERC's eLibrary at accession numbers 20210104-5278 and 20201120-5243.

The National Environmental Policy Act (NEPA) requires the Commission to take into account the environmental impacts that could result from its action whenever it considers whether or not to authorize a project or proposal. NEPA also requires the Commission to discover concerns the public may have about proposed actions. This process is referred to as “scoping.” The main goal of the scoping process is to focus the analysis in the supplemental EIS on the important environmental issues.

On March 2, 2021, the Commission issued a Notice of Amendment of Certificates and Opening of Scoping Period regarding the proposed restoration activities associated with the Atlantic Coast Pipeline (ACP) and Supply Header Project (SHP). That notice opened a public scoping period of 45 days to gather input from the public and interested agencies regarding both projects.

Summary of the Proposed Project Actions

Atlantic requests authorization to implement its strategy for the restoration of ACP project workspaces in compliance with associated permits, authorizations, and legal agreements. For the pipeline, Atlantic proposes to abandon in place all installed pipe (approximately 31.4 miles of the pipeline right-of-way) and restore lands that were cleared and graded (approximately 82.7 miles of the pipeline right-of-way), and seeks exemptions to the restoration of certain lands, to include leaving felled trees in place in areas where trees have not yet been cleared (approximately 25 miles of the pipeline right-of-way). For ACP aboveground facilities, Atlantic proposes to restore the sites, and manage the disposition of the materials and land through an investment recovery process.

EGTS requests authorization to implement its strategy for the restoration of SHP workspaces in compliance with associated permits, authorizations, and legal agreements. EGTS plans to leave in place all previously installed pipe (approximately 11.7 miles) and complete final restoration of approximately 9 miles of the pipeline right-of-way that EGTS has previously cleared and/or graded. EGTS owns the properties on which SHP aboveground facilities are located and proposes to stabilize all facility sites and prepare assets for long term preservation.

The Supplemental EIS Process and Identified Issues

The supplemental EIS will discuss impacts that could occur as a result of the proposed activities related to the disposition of the projects and restoration of the project workspaces. To date, we have identified potential environmental concerns related to Atlantic's and EGTS' proposals to leave felled trees in place and abandon installed pipe, and potential impacts on wetlands and waterbodies from restoration activities. As a result, the supplemental EIS will include a reevaluation of mitigation associated with the restoration activities previously analyzed for the construction of the ACP and SHP.³ The supplemental EIS will also consider revisions to land use, air emissions, and noise levels. Commission staff will also evaluate reasonable alternatives to the proposed project amendments or portions of the proposals and make recommendations on how to lessen or avoid impacts on the various resource areas.

³ Atlantic Coast Pipeline and Supply Header Project Final Environmental Impact Statement, issued on July 21, 2017; accessible on the FERC website at: https://cms.ferc.gov/final-environmental-impact-statement-atlantic-coast-pipeline-and-supply-header-project.

The supplemental EIS will present Commission staff's independent analysis of the issues. The draft supplemental EIS will be available in electronic format in the public record through eLibrary ⁴ and the Commission's natural gas environmental documents web page (https://www.ferc.gov/industries-data/natural-gas/environment/environmental-documents). If eSubscribed, you will receive instant email notification when the draft supplemental EIS is issued. The draft supplemental EIS will be issued for an allotted public comment period. After the comment period on the draft supplemental EIS, Commission staff will consider all timely comments and revise the document, as necessary, before issuing a final supplemental EIS.

⁴ For instructions on connecting to eLibrary, refer to the last page of this notice.

With this notice, the Commission is asking agencies with jurisdiction by law and/or special expertise with respect to the environmental issues of these projects to formally cooperate in the preparation of the supplemental EIS.⁵ Agencies that would like to request cooperating agency status should follow the instructions for filing comments provided under the Public Participation section of this notice. The U.S. Forest Service has already agreed to participate as a cooperating agency in the preparation of the supplemental EIS.

⁵ The Council on Environmental Quality regulations addressing cooperating agency responsibilities are at Title 40, Code of Federal Regulations, Part 1501.6.

Environmental Mailing List

The environmental mailing list includes federal, state, and local government representatives and agencies; elected officials; environmental and public interest groups; Native American Tribes; other interested parties; and local libraries and newspapers. This list also includes all affected landowners (as defined in the Commission's regulations) for the original ACP and SHP and anyone who submits comments on the project amendments. Commission staff will update the environmental mailing list as the analysis proceeds to ensure that Commission notices related to this environmental review are sent to all individuals, organizations, and government entities interested in and/or potentially affected by the proposed project amendments.

A Notice of Availability of the draft supplemental EIS will be sent to the environmental mailing list and will provide instructions to access the electronic document on the FERC's website (www.ferc.gov). If you need to make changes to your name/address, or if you would like to remove your name from the mailing list, please complete one of the following steps:

(1) Send an email to GasProjectAddressChange@ferc.gov stating your request. You must include the docket number CP15-554-009 and/or CP15-555-007 in your request. If you are requesting a change to your address, please be sure to include your name and the correct address. If you are requesting to delete your address from the mailing list, please include your name and address as it appeared on this notice. This email address is unable to accept comments.

OR

(2) Return the attached “Mailing List Update Form” (appendix 1).⁶

⁶ The appendices referenced in this notice will not appear in the Federal Register. Copies of appendices were sent to all those receiving this notice in the mail and are available at www.ferc.gov using the link called “eLibrary” or from the Commission's Public Reference Room, 888 First Street NE, Washington, DC 20426, or call (202) 502-8371. For instructions on connecting to eLibrary, refer to the last page of this notice.

Schedule for Environmental Review

The Commission's March 2, 2021 Notice of Amendment for the ACP and SHP alerted other agencies issuing federal authorizations of the requirement to complete all necessary reviews and to reach a final decision on the request for a federal authorization within 90 days of the date of issuance of the Commission staff's final supplemental EIS for the ACP and SHP. This instant notice identifies the FERC staff's planned schedule for completion of the final supplemental EIS for the ACP and SHP, which is based on an issuance of the draft supplemental EIS in July 2021. The forecasted schedule for both the draft and final supplemental EIS is based upon Atlantic and EGTS providing complete and timely responses to any future data requests. In addition, the schedule assumes that the cooperating agencies will provide input on their areas of responsibility on a timely basis.

Issuance of Notice of Availability of the final supplemental EIS—November 19, 2021

90-day Federal Authorization Decision Deadline—February 17, 2022

If a schedule change becomes necessary for the final EIS, an additional notice will be provided so that the relevant agencies are kept informed of the Project's progress.

Additional Information

In order to receive notification of the issuance of the EIS and to keep track of all formal issuances and submittals in specific dockets, the Commission offers a free service called eSubscription. This can reduce the amount of time you spend researching proceedings by automatically providing you with notification of these filings, document summaries, and direct links to the documents. Go to https://www.ferc.gov/ferc-online/overview to register for eSubscription.

Additional information about the project amendment is available from the Commission's Office of External Affairs, at (866) 208-FERC, or on the FERC website at www.ferc.gov using the eLibrary link. Click on the eLibrary link, click on “General Search” and enter the docket number in the “Docket Number” field. Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at www.ferc.gov/EventCalendar/EventsList.aspx along with other related information.

Dated: May 4, 2021.
Kimberly D. Bose,
Secretary.

[FR Doc. 2021-09828 Filed 5-7-21; 8:45 am]

BILLING CODE 6717-01-P